DEPARTMENT OF LABOR

Employment and Training Administration

[TA-W-51,564]

Stoneridge, Inc., Alphabet Division, Mebane, NC, Notice of Termination of Investigation

Pursuant to section 221 of the Trade Act of 1974, as amended, an investigation was initiated on April 23, 2003 in response to a union petition filed by a company official on behalf of workers at Stoneridge, Inc., Alphabet Division, Mebane, North Carolina.

The petitioner has requested that the petition be withdrawn. Consequently, further investigation would serve no purpose, and the investigation has been terminated.

Signed at Washington, DC this 13th day of June, 2003.
Linda G. Poole,
Certifying Officer, Division of Trade Adjustment Assistance.

[FR Doc. 03-16915 Filed 7-2-03; 8:45 am]

BILLING CODE 4510-30-P